ENVIRONMENTAL PROTECTION AGENCY

40 CFR Part 98

[EPA-HQ-OAR-2009-0927; FRL-9905-48-OAR]

RIN 2060-AR78

Greenhouse Gas Reporting Program: Amendments and Confidentiality Determinations for Fluorinated Gas Production

AGENCY: Environmental Protection Agency (EPA).

ACTION: Proposed rule: Extension of public comment period.

SUMMARY: The EPA is announcing an extension of the public comment period for the proposed rule titled “Greenhouse Gas Reporting Program: Amendments and Confidentiality Determinations for Fluorinated Gas Production.”

DATES: The public comment period started on November 19, 2013 (78 FR 69337). This document announces the extension of the deadline for public comment from January 21, 2014 to February 20, 2014. Comments must be received on or before February 20, 2014.

ADDRESSES: You may submit your comments, identified by Docket ID No. EPA-HQ-OAR-2009-0927 by any of the following methods:

• Federal eRulemaking Portal: http://www.regulations.gov. Follow the online instructions for submitting comments.

• Email: GHGReportingFGHG@epa.gov. Include Docket ID No. EPA-HQ-OAR-2009-0927 in the subject line of the message.

• Fax: (202) 566-9744.

• Mail: Environmental Protection Agency, EPA Docket Center (EPA/DC), Mailcode 28221T, Attention Docket ID No. EPA-HQ-OAR-2009-0927, 1200 Pennsylvania Avenue NW., Washington, DC 20460.

• Hand Delivery: EPA Docket Center, Public Reading Room, William Jefferson Clinton Building West, Room 3334, 1301 Constitution Avenue NW., Washington, DC 20004. Such deliveries are only accepted during the Docket's normal hours of operation, and special arrangements should be made for deliveries of boxed information.

Instructions: Direct your comments to Docket ID No. EPA-HQ-OAR-2009-0927. The EPA's policy is that all comments received will be included in the public docket without change and may be made available online at http://www.regulations.gov, including any personal information provided, unless the comment includes information claimed to be confidential business information (CBI) or other information whose disclosure is restricted by statute.

Do not submit information that you consider to be CBI or otherwise protected through http://www.regulations.gov or email. Send or deliver information identified as CBI to only the mail or hand/courier delivery address listed above, attention: Docket ID No. EPA-HQ-OAR-2009-0927. The http://www.regulations.gov Web site is an “anonymous access” system, which means the EPA will not know your identity or contact information unless you provide it in the body of your comment. If you send an email comment directly to the EPA without going through http://www.regulations.gov your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Air Docket, EPA/DC, William Jefferson Clinton Building West, Room 3334, 1301 Constitution Ave. NW., Washington, DC. This Docket Facility is open from 8:30 a.m. to 4:30 p.m., Monday through Friday, excluding legal holidays. The telephone number for the Public Reading Room is (202) 566-1744, and the telephone number for the Air Docket is (202) 566-1742.

FOR FURTHER INFORMATION CONTACT: Carole Cook, Climate Change Division, Office of Atmospheric Programs (MC-6207J), Environmental Protection Agency, 1200 Pennsylvania Ave. NW., Washington, DC 20460; telephone number: (202) 343-9263; fax number: (202) 343-2342; email address: GHGreporting@epa.gov. For technical information, contact the Greenhouse Gas Reporting Rule Helpline at: http://www.epa.gov/climatechange/emissions/ghgrule_contactus.htm. Alternatively, contact Carole Cook at 202-343-9263.

Worldwide Web (WWW). In addition to being available in the docket, an electronic copy of the proposed rule is also be available through the WWW on the EPA's greenhouse gas reporting rule Web site at http://www.epa.gov/climatechange/emissions/ghgrulemaking.html.

SUPPLEMENTARY INFORMATION: Background on Today's Action. In this action, the EPA is providing notice that it is extending the comment period on the proposed rule titled “Greenhouse Gas Reporting Program: Amendments and Confidentiality Determinations for Fluorinated Gas Production,” which was published on November 19, 2013. The original deadline for submitting public comments on that rule was January 21, 2014. The EPA is extending that deadline to February 20, 2014. This extension will provide the general public additional time for public participation and comments.

List of Subjects in 40 CFR Part 98

Environmental protection, Administrative practice and procedure, Greenhouse gases, Reporting and recordkeeping requirements.

Dated: January 9, 2014.
Sarah Dunham,
Director, Office of Atmospheric Programs.

[FR Doc. 2014-00651 Filed 1-14-14; 8:45 am]

BILLING CODE 6560-50-P